DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Western Maryland Scenic Railroad

[Waiver Petition Docket Number FRA-2010-0089]

The Western Maryland Scenic Railroad (WMSR) petitioned FRA for relief from the requirements of CFR 223.15 Existing passenger cars, and § 223.13 Existing cabooses, for nine (9) passenger cars, and one (1) caboose. Specifically, passenger cars WMSR 200, 540, 541, 726, 844, 846, 850, 851, and 855, which were built between 1946, and 1954, and used by Class I Railroads until their retirement in long distance passenger service. Also, the cars are not equipped with the required number of emergency windows exits. The caboose, WMSR 1906, was built in 1969. Since FRA's long-standing definition of “antiquated” is being built prior to the end of World War II, even though this equipment is used on in tourist/excursion/educational service, relief from the Federal safety glazing requirements is required.

WMSR operates this equipment primarily on trackage between Cumberland, and Frostburg, Maryland. A portion of the trackage is leased from the CSX Transportation Inc. (CSXT), in Ridgeley, WV, where the railroad's maintenance, storage, and repair facilities are located. WMSR is the only operator/tenant of this least trackage and acreage.

The above referenced passenger cars and caboose have occasionally been leased/loaned for excursion service purposes to other organizations, including CSXT, such as Charity Train, Masters Golf Tournament, and the Kentucky Derby Train. In addition, WMSR has been requested to provide excursion passenger equipment for an anniversary celebration on the South Branch Valley Railroad later in 2010. WMSR tourist railroad operations are conducted at speeds of 20 mph, but while the equipment is on loan/lease to other operators, the operating speeds may differ.

There have been no reported incidents of stoning or acts of vandalism against the excursion trains. WMSR believes that the cost to retrofit these cars is not economically feasible, would impose a serious financial hardship to the non-profit organization, and would jeopardize their ability to utilize the equipment in its current service.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0089) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC, on September 27, 2010.
Robert C. Lauby,
Deputy Associate Administrator for Regulatory and Legislative Operations.

[FR Doc. 2010-24705 Filed 9-30-10; 8:45 am]

BILLING CODE 4910-06-P